DEPARTMENT OF ENERGY

Federal Energy Regulatory Commission

Combined Notice of Filings #1

Take notice that the Commission received the following exempt wholesale generator filings:

Docket Numbers: EG15-69-000.

Applicants: Benson Power, LLC.

Description: Notice of Self-Certification of Exempt Wholesale Generator Status of Benson Power, LLC.

Filed Date: 3/20/15.

Accession Number: 20150320-5128.

Comments Due: 5 p.m. ET 4/10/15.

Take notice that the Commission received the following electric rate filings:

Docket Numbers: ER11-2855-015; ER11-2856-015; ER11-2857-015; ER10-2488-009; ER10-2722-004; ER10-2787-004; ER12-2037-004.

Applicants: Avenal Park LLC, Sand Drag LLC, Sun City Project LLC, Oasis Power Partners, LLC, Eurus Combine Hills I LLC, Eurus Combine Hills II LLC, Spearville 3, LLC.

Description: Notice of Non-Material Change in Status of the Eurus MBR Entities.

Filed Date: 3/19/15.

Accession Number: 20150319-5214.

Comments Due: 5 p.m. ET 4/9/15.

Docket Numbers: ER15-477-000.

Applicants: Southwest Power Pool, Inc.

Description: eTariff filing per 35.19a(b): 1888R3 Westar Energy, Inc. Refund Report to be effective N/A.

Filed Date: 3/20/15.

Accession Number: 20150320-5090.

Comments Due: 5 p.m. ET 4/10/15.

Docket Numbers: ER15-484-000.

Applicants: Southwest Power Pool, Inc.

Description: eTariff filing per 35.19a(b): 1891R3 Westar Energy, Inc. Refund Report to be effective N/A.

Filed Date: 3/20/15.

Accession Number: 20150320-5094.

Comments Due: 5 p.m. ET 4/10/15.

Docket Numbers: ER15-490-000.

Applicants: Southwest Power Pool, Inc.

Description: eTariff filing per 35.19a(b): 1892R3 Westar Energy, Inc. Refund Report to be effective N/A.

Filed Date: 3/20/15.

Accession Number: 20150320-5095.

Comments Due: 5 p.m. ET 4/10/15.

Docket Numbers: ER15-710-001.

Applicants: Arizona Public Service Company.

Description: Tariff Amendment per 35.17(b): Service Agreement No. 341—Response to FERC Notice of Deficiency to be effective 1/1/2015.

Filed Date: 3/20/15.

Accession Number: 20150320-5215.

Comments Due: 5 p.m. ET 4/10/15.

Docket Numbers: ER15-977-001.

Applicants: Midcontinent Independent System Operator, Inc.

Description: Tariff Amendment per 35.17(b): 2015-03-20_SA 2737 ATC-WPSC Amended PCA to be effective 4/6/2015.

Filed Date: 3/20/15.

Accession Number: 20150320-5097.

Comments Due: 5 p.m. ET 4/10/15.

Docket Numbers: ER15-1340-000.

Applicants: Southwest Power Pool, Inc.

Description: Section 205(d) rate filing per 35.13(a)(2)(iii): Revisons to Attachment AE Section 2.10.3 Regulation Qualified Resources to be effective 5/18/2015.

Filed Date: 3/19/15.

Accession Number: 20150319-5189.

Comments Due: 5 p.m. ET 4/9/15.

Docket Numbers: ER15-1341-000.

Applicants: Southern California Edison Company.

Description: Section 205(d) rate filing per 35.13(a)(2)(iii): GIA and Distribution Service Agmt SunEdison Utility Solutions Almond Ave Project to be effective 3/21/2015.

Filed Date: 3/20/15.

Accession Number: 20150320-5002.

Comments Due: 5 p.m. ET 4/10/15.

Docket Numbers: ER15-1342-000.

Applicants: Southern California Edison Company.

Description: Section 205(d) rate filing per 35.13(a)(2)(iii): GIA and Distribution Service Agmt SunEdison Utility Solutions Terminal Freezers to be effective 3/21/2015.

Filed Date: 3/20/15.

Accession Number: 20150320-5003.

Comments Due: 5 p.m. ET 4/10/15.

Docket Numbers: ER15-1343-000.

Applicants: Southern California Edison Company.

Description: Section 205(d) rate filing per 35.13(a)(2)(iii): GIA and Distribution Service Agmt SunEdison Utility Solutions Jurupa St Project to be effective 3/21/2015.

Filed Date: 3/20/15.

Accession Number: 20150320-5096.

Comments Due: 5 p.m. ET 4/10/15.

Docket Numbers: ER15-1344-000.

Applicants: PJM Interconnection, L.L.C.

Description: Section 205(d) rate filing per 35.13(a)(2)(iii): Revisions to OATT Schedule 12 Appendix A re: RTEP approved by the PJM Board Febr to be effective 5/19/2015.

Filed Date: 3/20/15.

Accession Number: 20150320-5150.

Comments Due: 5 p.m. ET 4/10/15.

Docket Numbers: ER15-1345-000.

Applicants: Midcontinent Independent System Operator, Inc., South Mississippi Electric Power Association.

Description: Section 205(d) rate filing per 35.13(a)(2)(iii): 2015-03-20_SMEPA RTO Adder Filing to be effective 6/1/2015.

Filed Date: 3/20/15.

Accession Number: 20150320-5153.

Comments Due: 5 p.m. ET 4/10/15.

Docket Numbers: ER15-1346-000.

Applicants: Duke Energy Carolinas, LLC.

Description: Section 205(d) rate filing per 35.13(a)(2)(iii): Nuclear Decommissioning Amendments to Forumla Rate PPAs to be effective 1/1/2013.

Filed Date: 3/20/15.

Accession Number: 20150320-5165.

Comments Due: 5 p.m. ET 4/10/15.

Docket Numbers: ER15-1347-000.

Applicants: California Independent System Operator Corporation.

Description: Section 205(d) rate filing per 35.13(a)(2)(iii): 2015-03-20_PSE_EIMIA to be effective 5/20/2015.

Filed Date: 3/20/15.

Accession Number: 20150320-5192.

Comments Due: 5 p.m. ET 4/10/15.

Docket Numbers: ER15-1348-000.

Applicants: Roseton Generating LLC.

Description: Section 205(d) rate filing per 35.13(a)(2)(iii): MBR Tariff Amendments to be effective 5/19/2015.

Filed Date: 3/20/15.

Accession Number: 20150320-5219.

Comments Due: 5 p.m. ET 4/10/15.

Docket Numbers: ER15-1349-000.

Applicants: Castleton Commodities Merchant Trading L.P.

Description: Section 205(d) rate filing per 35.13(a)(2)(iii): MBR Tariff Amendments to be effective 5/19/2015.

Filed Date: 3/20/15.

Accession Number: 20150320-5223.

Comments Due: 5 p.m. ET 4/10/15.

Docket Numbers: ER15-1350-000.

Applicants: CCI Rensselaer LLC.

Description: Section 205(d) rate filing per 35.13(a)(2)(iii): MBR Tariff Amendments to be effective 5/19/2015.

Filed Date: 3/20/15.

Accession Number: 20150320-5224.

Comments Due: 5 p.m. ET 4/10/15.

Take notice that the Commission received the following electric securities filings:

Docket Numbers: ES15-14-000.

Applicants: NorthWestern Corporation.

Description: Application for Authorization Under Section 204 of the Federal Power Act to Issue Securities and Request for Shortened Comment Period of NorthWestern Corporation.

Filed Date: 3/19/15.

Accession Number: 20150319-5216.

Comments Due: 5 p.m. ET 4/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2015.
Nathaniel J. Davis, Sr.,
Deputy Secretary.

[FR Doc. 2015-06916 Filed 3-25-15; 8:45 am]

BILLING CODE 6717-01-P